DEPARTMENT OF LABOR

Employment and Training Administration

Comment Request for Information Collection for the Evaluation of Grants Serving Young Offenders; New Collection

AGENCY: Employment and Training Administration, Labor.

ACTION: Notice.

SUMMARY: The Department, as part of its continuing effort to reduce paperwork and respondent burden, conducts a pre-clearance consultation program to provide the public and Federal agencies with an opportunity to comment on proposed and/or continuing collections of information in accordance with the Paperwork Reduction Act of 1995 (PRA) [44 U.S.C. 3505(c)(2)(A)]. PRA helps to ensure that requested data can be provided in the desired format, reporting burden (time and financial resources) is minimized, collection instruments are clearly understood, and the impact of the collection requirements on respondents can be properly assessed.

Currently, the Employment and Training Administration (ETA) is soliciting comments concerning the information collection activities associated with the random assignment evaluation of ETA-funded grants serving young offenders, specifically, the Face Forward Grants (FFG) Rounds I and II; and the High-Poverty, High-Crime Communities Grants (HPHCG). These grants are aimed at serving young adult offenders, juvenile offenders, and students in high-risk high schools; and provide specific supports and interventions, such as enrollment in school or job training programs as well as access to housing, the availability of adult mentors, mental health services, and supporting social services through referrals. The objective of the evaluation is to determine whether these grants improve youth educational and employment outcomes, and reduce recidivism.

DATES: Written comments must be submitted to the office listed in the addresses section below on or before February 27, 2015.

ADDRESSES: Submit written comments to Gloribel Nieves-Cartagena, Office of Policy Development and Research, Room N-5641, Employment and Training Administration, U.S. Department of Labor, 200 Constitution Avenue NW., Washington, DC 20210. Telephone number: 202-693-2771 (this is not a toll-free number). Individuals with hearing or speech impairments may access the telephone number above via TTY by calling the toll-free Federal Information Relay Service at 1-877-889-5627 (TTY/TDD). Fax: 202-693-2766. Email: nieves-cartagena.gloribel@dol.gov. A copy of the proposed information collection request with applicable supporting documentation including a description of likely respondents, proposed frequency of responses, and estimated total burden can be obtained free of charge by contacting the office listed above.

SUPPLEMENTARY INFORMATION:

I. Background

For those leaving incarceration, overcoming the barriers to successful reentry may mean the difference between living a healthy and fulfilling life in a community and facing instability and potential homelessness. Understanding the ways Federal programs and systems interact with the formerly incarcerated is critical to helping individuals overcome these barriers. Additionally, it is important that employers and job seekers understand the facts around the role of a criminal record in making hiring decisions.

The Department assists young ex-offenders in finding employment and making a smooth transition to community life through employment-centered programs that include mentoring, job training, and other transitional services implemented by local faith-based and community organizations in collaboration with the American Job Centers.

In Program Years 2012 and 2013, the Department awarded $120 million in funds to implement projects aimed at serving young adult offenders, juvenile offenders, and students in high-risk high schools. The FFG and the HPHCG programs are holistic program models offering a full complement of services including educational programs, vocational and employment programs, and mentoring. In addition, the programs target the same youth outcomes-educational attainment, improved labor market outcomes, and reduced recidivism.

Understanding the effectiveness of these Department of Labor-funded youth offender programs requires a rigorous evaluation that can address potential biases resulting from fundamental differences between program participants and nonparticipants. ETA has contracted with Mathematica Policy Research and its subcontractor, Social Policy Research Associates, to conduct (1) a random assignment evaluation to measure the impact of the youth offender programs, and (2) a process study to understand program implementation and help interpret impact study results.

The proposed evaluation will include two data collection efforts: (1) A request for youth consent to participate in the random assignment study in the Contact Information Form; and (2) baseline and contact information collected for the random assignment evaluation, in the Baseline Information Form.

Understanding the effectiveness of youth offender programs requires data collection from multiple sources. This evaluation effort intends to collect a rich set of baseline, service, and outcome data on treatment and control group members. The Baseline Information Form will enable the evaluators to describe the characteristics of study participants at the time they are randomly assigned to the treatment or control group, ensure that random assignment was conducted properly, create subgroups for the analysis, provide contact information to locate individuals for follow-up surveys, and improve the precision of the impact estimates.

II. Desired Focus of Comments

The Department is particularly interested in comments which:

• Evaluate whether the proposed collection of information is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology, e.g., permitting electronic submissions of responses.

III. Current Actions

Type of Review: New Collection.

Title: Evaluation of ETA Grants Serving Young Offenders.

OMB Number: 1205-0NEW.

Affected Public: Individuals or households (Young ex-offenders) & private sector (staff).

Burden Estimates for Contact Information Form and Baseline Information Form Data Collection for Young Offenders Grants Evaluation
| Number of respondents | Burden per response (minutes) | Total respondent burden (hours)
Youth | 5,000 | 13 | 1,083
Staff | 40 | 13 minutes per youth, with an average of 125 youth per staff member | 1,083
Total | 5,040 |  | 2,166

Total Estimated Annual Other Costs Burden: 0.

We will summarize and/or include in the request for OMB approval of the ICR, the comments received in response to this comment request; they will also become a matter of public record.

Portia Wu,
Assistant Secretary for Employment and Training, Labor.

[FR Doc. 2014-30284 Filed 12-24-14; 8:45 am]

BILLING CODE 4510-FN-P